DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before May 16, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-101265

Applicant: Dean Ransom Jr., Vernon, Texas.

Applicant requests a new permit for research and recovery purposes to conduct presence/absence surveys for golden-cheeked warbler (Dendroica chrysoparia) and black-capped vireo (Vireo atricapillus) within Texas.

Permit No. TE-101264

Applicant: Vernadero Group, Inc., Scottsdale, Arizona.

Applicant requests a new permit for research and recovery purposes to conduct presence/absence surveys for the following species within Arizona, New Mexico, Oklahoma, and Texas: Black-capped vireo (Vireo atricapillus), cactus ferruginous pygmy-owl (Glaucidium brasilianum cactorum), golden-cheeked warbler (Dendroica chrysoparia), interior least tern (Sterna antillarum), lesser long-nosed bat (Leptonycteris curasoae yerbabuenae), northern aplomado falcon (Falco femoralis septentrionalis), piping plover (Charadrius melodus), red-cockaded woodpecker (Picoides borealis), southwestern willow flycatcher (Empidonax traillii extimus), Yuma clapper rail (Rallus longirostris yumanensis), and Houston toad (Bufo houstonensis).

Permit No. TE-825473

Applicant: Kenneth Holmes, Dripping Springs, Texas.

Applicant requests a new permit for research and recovery purposes to conduct presence/absence surveys for the following species within Texas: Mexican long-nosed bat (Leptonycteris nivalis), black-capped vireo (Vireo atricapillus), brown pelican (Pelecanus occidentalis), golden-cheeked warbler (Dendroica chrysoparia), interior least tern (Sterna antillarum), piping plover (Charadrius melodus), red-cockaded woodpecker (Picoides borealis), southwestern willow flycatcher (Empidonax traillii extimus), Houston toad (Bufo houstonensis), and American burying beetle (Nicrophorus americanus).

Permit No. TE-101372

Applicant: William Hood, Round Rock, Texas.

Applicant requests a new permit for research and recovery purposes to conduct presence/absence surveys for the following species within Texas: Black-capped vireo (Vireo atricapillus), golden-cheeked warbler (Dendroica chrysoparia), interior least tern (Sterna antillarum), red-cockaded woodpecker (Picoides borealis), piping plover (Charadrius melodus), and Houston toad (Bufo houstonensis).

Permit No. TE-082492

Applicant: Charles D. Hathcock, Santa Fe, New Mexico.

Applicant requests an amendment to an existing permit to allow presence/absence surveys for southwestern willow flycatcher (Empidonax traillii extimus) within New Mexico.

Authority: 16 U.S.C. 1531, et seq.

Dated: March 30, 2005.
Bryan Arroyo,
Assistant Regional Director, Ecological Services, Region 2, Albuquerque, New Mexico.

[FR Doc. 05-7565 Filed 4-14-05; 8:45 am]

BILLING CODE 4310-55-P